DEPARTMENT OF THE INTERIOR

Bureau of Reclamation

[RR02054000, 15XR0680A1, RX.02148943.3320900]

Notice of Availability for the Final Environmental Impact Statement for the Central Valley Project Municipal and Industrial Water Shortage Policy, Central Valley, California

AGENCY: Bureau of Reclamation, Interior.

ACTION: Notice.

SUMMARY: The Bureau of Reclamation has prepared a Final Environmental Impact Statement (EIS) for the Central Valley Project Municipal and Industrial Water Shortage Policy. The Final EIS addresses updating the Central Valley Project Municipal and Industrial Water Shortage Policy and implementation guidelines. The Central Valley Project Municipal and Industrial Water Shortage Policy would be used by Reclamation to: (1) Define water shortage terms and conditions for applicable Central Valley Project water service contractors, as appropriate; (2) establish Central Valley Project water supply allocations that, together with the municipal and industrial water service contractors' drought water conservation measures and other water supplies, would assist the municipal and industrial water service contractors in their efforts to protect public health and safety during severe or continuing droughts; and (3) provide information to water service contractors for their use in water supply planning and development of drought contingency plans.

DATES: The Bureau of Reclamation will not issue a final decision on the proposal for a minimum of 30 days after the date that the Environmental Protection Agency releases the Final EIS. After the 30-day period, the Bureau of Reclamation will complete a Record of Decision. The Record of Decision will state the action that will be implemented and will discuss all factors leading to the decision.

ADDRESSES: Send written correspondence or requests for copies of the Final EIS to Mr. Tim Rust, Bureau of Reclamation, Resources Management Division, 2800 Cottage Way, Sacramento, CA 95825, or via email to trust@usbr.gov. To request a compact disc of the Final EIS, please contact Mr. Tim Rust as indicated above, or call (916) 978-5516.

The Final EIS may be viewed at the Bureau of Reclamation's Web site at http://www.usbr.gov/mp/cvp/mandi/index.html. See the SUPPLEMENTARY INFORMATION section for locations where copies of the Final EIS are available for public review.

FOR FURTHER INFORMATION CONTACT: Mr. Tim Rust, Program Manager, Bureau of Reclamation, via email at trust@usbr.gov, or at (916) 978-5516.

SUPPLEMENTARY INFORMATION: The Central Valley Project is operated under Federal statutes authorizing the Central Valley Project, and by the terms and conditions of water rights acquired pursuant to California law. During any year, constraints may occur on the availability of Central Valley Project water for municipal and industrial water service contractors. The cause of the water shortage may be drought, unavoidable causes, or restricted operations resulting from legal and environmental obligations or mandates. Those legal and environmental obligations include, but are not limited to, the Endangered Species Act, the Central Valley Project Improvement Act (CVPIA), and conditions imposed on Central Valley Project water rights by the California State Water Resources Control Board. The 2001 draft Central Valley Project Municipal & Industrial Water Shortage Policy, as modified by Alternative 1 B of the 2005 draft environmental assessment (EA), establishes the terms and conditions regarding the constraints on availability of water supply for the Central Valley Project municipal and industrial water service contracts.

Allocation of Central Valley Project water supplies for any given water year is based upon forecasted reservoir inflows and Central Valley hydrologic conditions, amounts of storage in Central Valley Project reservoirs, regulatory requirements, and management of Section 3406(b)(2) resources and refuge water supplies in accordance with CVPIA. In some cases, municipal and industrial allocations in water shortage years may differ between Central Valley Project divisions due to regional Central Valley Project water supply availability, system capacity, or other operational constraints.

The purpose of the update to the 2001 Central Valley Project Municipal & Industrial Water Shortage Policy, as modified by Alternative 1 B of the 2005 draft EA, is to provide detailed, clear, and objective guidelines for the distribution of Central Valley Project water supplies during water shortage conditions, thereby allowing Central Valley Project water users to know when, and by how much, water deliveries may be reduced in drought and other low water supply conditions.

The increased level of clarity and understanding that will be provided by the update to the 2001 draft Central Valley Project Municipal & Industrial Water Shortage Policy is needed by water managers and the entities that receive Central Valley Project water to better plan for and manage available Central Valley Project water supplies, and to better integrate the use of Central Valley Project water with other available non-Central Valley Project water supplies. The update to the 2001 draft Central Valley Project Municipal & Industrial Water Shortage Policy is also needed to clarify certain terms and conditions with regard to its applicability and implementation. The proposed action is the adoption of an updated Central Valley Project Municipal & Industrial Water Shortage Policy and its implementation guidelines.

The EIS analyzes five alternative actions. Alternative 1 is No Action, and represents the current 2001 draft Central Valley Project Municipal & Industrial Water Shortage Policy, as modified by Alternative 1 B of the 2005 EA, which is currently guiding Reclamation's allocation of water to agricultural and municipal and industrial water service contractors during water shortage years. Alternative 2, Equal Agricultural and Municipal & Industrial Allocation, provides municipal and industrial and agricultural water service contractors with equal allocation percentages during water shortage conditions. Alternative 3, Full Municipal & Industrial Allocation Preference, provides municipal and industrial contractors with 100 percent of their contract allocation until Central Valley Project supplies are not available to meet those demands, while agricultural water service contractor deliveries are reduced as needed. Alternative 4, Updated Municipal & Industrial Water Shortage Policy [PREFERRED ALTERNATIVE], modifies Alternative 1 to provide a different definition of unconstrained years used in calculating historical use, and provides higher level of deliveries to municipal and industrial water service contractors by attempting to provide minimum unmet public health and safety demand without a guarantee. Alternative 5, Municipal & Industrial Contractor Suggested Water Shortage Policy, is similar to Alternative 4 but attempts to meet unmet public health and safety demands.

A Notice of Availability of the Draft EIS was published in the Federal Register on November 19, 2014 (79 FR 68912). Reclamation filed a Notice of Public Review and Comment Period Extension in the Federal Register on January 9, 2015 (80 FR 1431). The comment period for the Draft EIS ended on March 13, 2015. The Final EIS contains responses to all comments received and reflects comments and any additional information received during the review period.

Copies of the Final EIS are available for public review at the following locations:

1. Bureau of Reclamation, Mid-Pacific Region, Regional Library, 2800 Cottage Way, Sacramento, CA 95825

2. Natural Resources Library, U.S. Department of the Interior, 1849 C Street NW., Main Interior Building, Washington, DC 20240-0001

Public Disclosure

Before including your address, phone number, email address, or other personal identifying information in any communication, you should be aware that your entire communication—including your personal identifying information—may be made publicly available at any time. While you can ask us in your communication to withhold your personal identifying information from public review, we cannot guarantee that we will be able to do so.

Dated: July 1, 2015.
Pablo R. Arroyave,
Deputy Regional Director, Mid-Pacific Region.

[FR Doc. 2015-22787 Filed 9-9-15; 8:45 am]

BILLING CODE 4332-90-P